DEPARTMENT OF ENERGY

Federal Energy Regulatory Commission

Combined Notice of Filings

Take notice that the Commission has received the following Natural Gas Pipeline Rate and Refund Report filings:

Filings Instituting Proceedings

Docket Numbers: RP12-611-000.

Applicants: Equitrans, L.P.

Description: Products Extraction Update to be effective 5/17/2012.

Filed Date: 4/17/12.

Accession Number: 20120417-5130.

Comments Due: 5 p.m. ET 4/30/12.

Docket Numbers: RP12-612-000.

Applicants: Transcontinental Gas Pipe Line Company, LLC.

Description: Annual Adjustment to Rate Schedule SS-2 Storage Gas Balances 2012 to be effective 5/1/2012.

Filed Date: 4/18/12.

Accession Number: 20120418-5043.

Comments Due: 5 p.m. ET 4/30/12.

Docket Numbers: RP12-613-000.

Applicants: Centra Pipelines Minnesota Inc.

Description: Revised Index of Shippers to be effective 6/1/2012.

Filed Date: 4/18/12.

Accession Number: 20120418-5072.

Comments Due: 5 p.m. ET 4/30/12.

Docket Numbers: RP12-614-000.

Applicants: Horizon Pipeline Company, LLC.

Description: Penalty Revenue Crediting Report of Horizon Pipeline Company, LLC.

Filed Date: 4/18/12.

Accession Number: 20120418-5250.

Comments Due: 5 p.m. ET 4/30/12.

Docket Numbers: RP12-615-000.

Applicants: Tuscarora Gas Transmission Company.

Description: Maps 2012 to be effective 5/21/2012.

Filed Date: 4/20/12.

Accession Number: 20120420-5014.

Comments Due: 5 p.m. ET 5/2/12.

Docket Numbers: RP12-616-000.

Applicants: Northern Border Pipeline Company.

Description: Maps 2012 to be effective 5/21/2012.

Filed Date: 4/20/12.

Accession Number: 20120420-5015.

Comments Due: 5 p.m. ET 5/2/12.

Docket Numbers: RP12-617-000.

Applicants: Algonquin Gas Transmission, LLC.

Description: AGT 2012 Map Filing to be effective 5/21/2012.

Filed Date: 4/20/12.

Accession Number: 20120420-5051.

Comments Due: 5 p.m. ET 5/2/12.

Docket Numbers: RP12-618-000.

Applicants: Maritimes & Northeast Pipeline, LLC.

Description: MNUS 2012 Map Filing to be effective 5/21/2012.

Filed Date: 4/20/12.

Accession Number: 20120420-5052.

Comments Due: 5 p.m. ET 5/2/12.

Docket Numbers: RP12-619-000.

Applicants: Big Sandy Pipeline, LLC.

Description: BSP 2012 Map Filing to be effective 5/21/2012.

Filed Date: 4/20/12.

Accession Number: 20120420-5057.

Comments Due: 5 p.m. ET 5/2/12.

Docket Numbers: RP12-620-000.

Applicants: Ozark Gas Transmission, LLC.

Description: OGT 2012 Map Filing to be effective 5/21/2012.

Filed Date: 4/20/12.

Accession Number: 20120420-5074.

Comments Due: 5 p.m. ET 5/2/12.

Docket Numbers: RP12-623-000.

Applicants: Gulf Crossing Pipeline Company LLC.

Description: Update Section 6.10 (ROFR) to be effective 5/24/2012.

Filed Date: 4/23/12.

Accession Number: 20120423-5018.

Comments Due: 5 p.m. ET 5/7/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-313-002.

Applicants: Sea Robin Pipeline Company, LLC.

Description: Hurricane Compliance on 4-19-12 to be effective N/A.

Filed Date: 4/19/12.

Accession Number: 20120419-5115.

Comments Due: 5 p.m. ET 5/1/12.

Docket Numbers: RP12-388-001

Applicants: Columbia Gas Transmission, LLC.

Description: Prearranged Sales of Capacity Compliance Filing to be effective 3/21/2012.

Filed Date: 4/20/12.

Accession Number: 20120420-5119.

Comments Due: 5 p.m. ET 5/2/12.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: April 23, 2012.
Nathaniel J. Davis, Sr.,
Deputy Secretary.

[FR Doc. 2012-10184 Filed 4-26-12; 8:45 am]

BILLING CODE 6717-01-P